DEPARTMENT OF THE TREASURY

Office of Foreign Assets Control

Unblocking of Specially Designated Nationals and Blocked Persons Pursuant to Executive Order 13288, as Amended by Executive Order 13391

AGENCY: Office of Foreign Assets Control, Treasury.

ACTION: Notice.

SUMMARY: The Treasury Department's Office of Foreign Assets Control (“OFAC”) is publishing the names of nine individuals whose property and interests in property have been unblocked pursuant to Executive Order 13288 of March 6, 2003, “Blocking Property of Persons Undermining Democratic Processes or Institutions in Zimbabwe,” as amended by Executive Order 13391 of November 22, 2005, “Blocking Property of Additional Persons Undermining Democratic Processes or Institutions in Zimbabwe.”

DATES: The unblocking and removal from the list of Specially Designated Nationals and Blocked Persons (“SDN List”) of the nine individuals identified in this notice is effective as of April 17, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treasury.gov/ofac) or via facsimile through a 24-hour fax-on-demand service, tel.: 202/622-0077.

Background

On March 6, 2003, the President, invoking the authority of, inter alia, the International Emergency Economic Powers Act (50 U.S.C. 1701-06) (“IEEPA”) issued Executive Order 13288 (68 FR 11457, March 10, 2003). In Executive Order 13288, the President declared a national emergency to deal with the threat posed by the actions and policies of certain members of the Government of Zimbabwe and other persons to undermine Zimbabwe's democratic processes or institutions, contributing to the deliberate breakdown in the rule of law in Zimbabwe, to politically motivated violence and intimidation in that country, and to political and economic instability in the southern African region. The Annex to Executive Order 13288 included 77 individuals, including two of the nine individuals identified in this notice, which resulted in the blocking of all property and interests in property of these individuals that was or thereafter came within the United States or the possession or control of U.S. persons. Executive Order 13288 also authorized the Secretary of the Treasury, in consultation with the Secretary of State, to designate additional persons determined to meet the criteria set forth in Executive Order 13288.

On November 22, 2005, in order to take additional steps with respect to the continued actions and policies of certain persons who undermine Zimbabwe's democratic processes and with respect to the national emergency described and declared in Executive Order 13288, the President, invoking the authority of, inter alia, IEEPA, issued Executive Order 13391 (70 FR 71201, November 25, 2005). Executive Order 13391 amends Executive Order 13288 and provides that the Annex to Executive Order 13288 is replaced and superseded in its entirety by the Annex to Executive Order 13391, containing the names of 128 individuals and 33 entities, including the eight of the nine individuals identified in this notice. Executive Order 13288, as amended by Executive Order 13391, authorizes the Secretary of the Treasury, in consultation with the Secretary of State, to block the property and interests in property of additional categories of persons beyond the category set forth in Executive Order 13288 prior to its amendment.

Executive Order 13288, as amended by Executive Order 13991, also authorizes the Secretary of the Treasury, in consultation with the Secretary of State, to determine that circumstances no longer warrant the inclusion of a person in the Annex to Executive Order 13288, as replaced and superseded by the Annex to Executive Order 13991, and to unblock any property and interests in property that had been blocked as a result of the person's inclusion in the Annex.

On April 17, 2014, the Acting Director of OFAC, in consultation with the State Department, determined that circumstances no longer warrant the inclusion of the individuals identified below in the Annex to E.O. 13288, as replaced and superseded by the Annex to E.O. 13391, and, accordingly, unblocked their property and interests in property and removed them from the SDN List.

1. CHITEPO, Victoria; DOB 27 Mar 1928; Politburo (individual) [ZIMBABWE].

2. CHOMBO, Marian, 45 Basset Crescent, Alexandra Park, Zimbabwe; DOB 11 Aug 1960; Passport AD000896 (Zimbabwe); Spouse of Ignatius Chombo (individual) [ZIMBABWE].

3. KANGAI, Kumbirai; DOB 17 Feb 1938; Politburo Deputy Secretary for External Relations (individual) [ZIMBABWE].

4. MANGWANA, Munyaradzi Paul, Box 360, Kadoma, Zimbabwe; No. 1, 5th Avenue, Westview, Kadoma, Zimbabwe; DOB 10 Aug 1961; Passport AD000459 (Zimbabwe); Minister of State for Anti-Corruption and Anti-Monopolies (individual) [ZIMBABWE].

5. MSIPA, Sharlottie; DOB 06 May 1936; Passport ZL008055 (Zimbabwe); Spouse of Cephas Msipa (individual) [ZIMBABWE].

6. NKOMO, John Landa, 59 Muchbimding Road, Worringham, Bulawayo, Zimbabwe; DOB 22 Aug 1934; Passport AD000477 (Zimbabwe); Speaker of Parliament & ZANU-PF National Chairman (individual) [ZIMBABWE].

7. NYONI, Peter Baka; DOB 10 Jan 1950; Passport ZD002188 (Zimbabwe); Spouse of Sithembiso Nyoni (individual) [ZIMBABWE].

8. NYONI, Sithembiso; DOB 20 Sep 1949; Passport AD000223 (Zimbabwe); Minister of Small and Medium Enterprises Development (individual) [ZIMBABWE].

9. SHUMBA, Isaiah Masvayamwanda; DOB 03 Jan 1949; Deputy Minister of Education, Sports and Culture (individual) [ZIMBABWE].

Dated: May 8, 2014.
Barbara C. Hammerle,
Acting Director, Office of Foreign Assets Control.

[FR Doc. 2014-11149 Filed 5-14-14; 8:45 am]

BILLING CODE 4810-AL-P